DEPARTMENT OF LABOR

Office of the Secretary

Agency Information Collection Activities; Submission for OMB Review; Comment Request; Follow-Up Survey Information for Green Jobs and Health Care Impact Evaluation, American Recovery Reinvestment Act Grants

ACTION: Notice.

SUMMARY: The Department of Labor (DOL) is submitting the Employment and Training Administration (ETA) sponsored information collection request (ICR) proposal titled, “Follow-Up Survey Information for Green Jobs and Health Care Impact Evaluation, American Recovery Reinvestment Act Grants,” to the Office of Management and Budget (OMB) for review and approval for use in accordance with the Paperwork Reduction Act (PRA) of 1995 (44 U.S.C. 3501 et seq.).

DATES: Submit comments on or before December 21, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: In July, 2011, the OMB approved a baseline data collection ICR for the American Recovery Reinvestment Act (ARRA) Green Jobs and Health Care Grants Impact Evaluation (OMB 1205-0486), and in March, 2012, the OMB approved a subsequent ICR for a process study including site visits and focus groups (OMB 1205-0487). This new ICR is limited to follow-up interviews planned for all study participants 18 months and 36 months after the baseline collection. The overall aim of this evaluation is to determine the extent to which enrollees achieve increases in employment, earnings, and career advancement because of their participation in the training provided by Pathways Out of Poverty and Healthcare Sector and other High Growth and Emerging Industry grantees and to identify promising best practices and strategies for replication.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on April 12, 2012 (77 FR 22001).

Interested parties are encouraged to send comments to the OMB, Office of Information and Regulatory Affairs at the address shown in the ADDRESSES section within 30 days of publication of this notice in the Federal Register. In order to help ensure appropriate consideration, comments should mention OMB ICR Reference Number 201209-1205-004. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Follow-Up Survey Information for Green Jobs and Health Care Impact Evaluation, American Recovery Reinvestment Act Grants.

OMB ICR Reference Number: 201209-1205-004.

Affected Public: Individuals or Households.

Total Estimated Number of Respondents: 4,024.

Total Estimated Number of Responses: 4,024.

Total Estimated Annual Burden Hours: 2,213.

Total Estimated Annual Other Costs Burden: $0.

Dated: November 6, 2012.
Michel Smyth,
Departmental Clearance Officer.

[FR Doc. 2012-28254 Filed 11-20-12; 8:45 am]

BILLING CODE 4510-FN-P